DEPARTMENT OF JUSTICE

Notice of Lodging of Proposed Consent Decree Under the Comprehensive Environmental Response, Compensation, and Liability Act

On June 14, 2022, the Department of Justice lodged a proposed consent decree with the United States District Court for the District of New Jersey in the lawsuit entitled United States v. Kaydon Acquisition XI, Inc., et al., Civil Action No. 2:22-cv-03759-CCC-JRA. The three defendants are Kaydon Acquisition XI, Inc., K. Hovnanian Port Imperial Urban Renewal, Inc., and Hovnanian Enterprises, Inc. In the filed complaint, the United States, on behalf of the U.S. Environmental Protection Agency (“EPA”), alleges that the defendants are liable under Section 107 of the Comprehensive Environmental Response, Compensation, and Liability Act, 42 U.S.C. 9607(a), for past response costs EPA incurred to respond to releases and threatened releases of hazardous substances into the environment at the M.C. Canfield Sons Co. Site located in Newark, New Jersey. The proposed consent decree requires the defendants to pay $1.5 million, plus interest from April 1, 2022, to EPA, in settlement of the United States' claim for past response costs against the defendants.

The publication of this notice opens a period for public comment on the proposed consent decree. Comments should be addressed to the Assistant Attorney General, Environment and Natural Resources Division, and should refer to United States v. Kaydon Acquisition XI, Inc., et al., D.J. Ref. No. 90-11-3-11062/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611

Please enclose a check or money order for $4.75 (25 cents per page reproduction cost), payable to the United States Treasury.

Henry S. Friedman,
Assistant Section Chief, Environmental Enforcement Section, Environment & Natural Resources Division.

[FR Doc. 2022-13400 Filed 6-22-22; 8:45 am]

BILLING CODE 4410-15-P